DEPARTMENT OF TRANSPORTATION

Federal Aviation Administration

[Summary Notice No. PE-2003-56]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Caren Centorelli, Office of Rulemaking (ARM-1), Federal Aviation Administration, 800 Independence Avenue, SW., Washington, DC 20591. Tel. (202) 267-8199.

This notice is published pursuant to 14 CFR 11.85 and 11.91.

Issued in Washington, DC, on September 24, 2003.
Donald P. Byrne,
Assistant Chief Counsel for Regulations.

Dispositions of Petitions

Docket No.: FAA-2003-15356.

Petitioner: Lufthansa Technik AG.

Section of 14 CFR Affected: 14 CFR 25.785(j).

Description of Relief Sought/Disposition: To provide relief from the handhold requirement of § 25.785(j). This exemption allows the installation of an interior arrangement that does not provide firm handholds for the Boeing Model 737-700 IGW airplane where the airplane is not operated for hire or offered for common carriage. Grant, 09/03/2003, Exemption No.8124.

Docket No.: FAA-2003-15585.

Petitioner: Midcoast Aviation, Inc.

Section of 14 CFR Affected: 14 CFR 25.813(e).

Description of Relief Sought/Disposition: To provide relief from § 25.813(e) in order to allow installation of interior doors between passenger compartments on the Dassault Aviation airplane models Mystere Falcon 900 and Falcon 900EX. Grant, 09/03/2003, Exemption No.8123.

[FR Doc. 03-24600 Filed 9-26-03; 8:45 am]

BILLING CODE 4910-13-P